DEPARTMENT OF HOMELAND SECURITY

Coast Guard

[Docket No. USCG-2012-0456]

Merchant Marine Personnel Advisory Committee: Intercessional Meeting

AGENCY: Coast Guard, DHS.

ACTION: Notice of Federal Advisory Committee Working Group Meeting.

SUMMARY: A working group of the Merchant Marine Personnel Advisory Committee (MERPAC) will meet to discuss Task Statement 76, “Review of Performance Measures (Assessment Criteria);” and Task Statement 77, “Development of Performance Measures (Assessment Criteria).” This meeting will be open to the public.

DATES: The working group will meet from June 11th through June 15th, 2012, from 8 a.m. until 5 p.m. each day. Please note that the meeting may adjourn before June 15th if all business is finished. Written comments to be distributed to working group members and placed on MERPAC's Web site are due by June 5th, 2012.

ADDRESSES: The working group will meet at the Seafarers Harry Lundeberg School of Seamanship, 45353 Saint Georges Ave., Piney Point, MD 20674.

For information on facilities or services for individuals with disabilities or to request special assistance, contact Mr. Howard Thompson at telephone number 301-994-0010 ext. 5463 as soon as possible.

To facilitate public participation, we are inviting public comment on the issues to be considered by the working group, which are listed in the “Agenda” section below. Written comments must be identified by Docket No. USCG-2012-0456 and may be submitted by one of the following methods:

• Federal eRulemaking Portal: http://www.regulations.gov. Follow the instructions for submitting comments (preferred method to avoid delays in processing).

• Fax: 202-372-1918.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov. including any personal information provided. You may review a Privacy Act notice regarding our public dockets in the January 17, 2008, issue of the Federal Register (73 FR 3316).

Docket: For access to the docket to read documents or comments related to this notice, go to http://www.regulations.gov.

This notice may be viewed in our online docket, USCG-2012-0456, at http://www.regulations.gov.

FOR FURTHER INFORMATION CONTACT: Mr. Rogers Henderson, Alternate Designated Federal Officer (ADFO), telephone 202-372-1408. If you have any questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

MERPAC is an advisory committee established under the Secretary's authority in section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

Agenda

June 11-15, 2012

The agenda for the June 11th-June 15th, 2012 working group meeting is as follows:

(1) Discuss, prepare, and review proposed recommendations for the full committee to consider concerning Task Statement 76, “Review of Performance Measures (Assessment Criteria),” and Task Statement 77, “Development of Performance Measures (Assessment Criteria).” Task Statements 76 and 77 can be used to assess mariner competencies listed in the International Convention on Standards of Training, Certification and Watchkeeping, 1978 as amended. The working group will specifically address performance measures (assessment criteria) for mariners seeking an endorsement as: Officer in Charge of a Navigational Watch and Master on ships of less than 500 Gross Tonnage as measured under the International Tonnage Convention (ITC) while engaged on near-coastal voyages; Able Seafarer—Deck; Chief Engineer Officer and Second Engineer Officer on ships powered by main propulsion machinery of 3,000 kW propulsion power or more; Chief Engineer Officer and Second Engineer Officer on ships powered by main propulsion machinery of between 750 kW and 3,000 kW propulsion power; Able Seafarer—Engine; Electro-Technical Officer; and Electro-Technical Rating;

(2) Public comment period (each day); and

(3) Adjournment of meeting.

Procedural: A copy of all meeting documentation is available at http://www.fido.gov/facadatabase or by contacting Rogers Henderson as indicated above. Once you have accessed the site's main page, click on “Public Access;” at the next page highlight “2012” then click “Explore Data.” At the next page, click on “Department of Homeland Security.” Click on the MERPAC Committee page, click on the meetings tab and then the “View” button for the meeting dated June 11, 2012 to access the information for this meeting. Minutes will be available 90 days after this meeting. Both minutes and documents applicable for this meeting can also be found at an alternative site using the following web address: https://homeport.uscg.mil and use these key strokes: Missions; Port and Waterways; Safety Advisory Committees; MERPAC; and then use the event key. A public oral comment period will be held each day during the working group meeting. Speakers are requested to limit their comments to 3 minutes. Please note that the public oral comment period may end before the prescribed ending time of the meeting. Contact Rogers Henderson as indicated above to register as a speaker.

Dated: May 15, 2012.
F.J. Sturm,
Acting Director of Commercial Regulations and Standards.

[FR Doc. 2012-12314 Filed 5-21-12; 8:45 am]

BILLING CODE 9110-04-P